DEPARTMENT OF AGRICULTURE

Natural Resources Conservation Service

Notice of Availability of a Finding of No Significant Impact (FONSI)

AGENCY: Natural Resources Conservation Service, USDA.

ACTION: Notice of availability of a Finding of No Significant Impact for a project on Conrad Creek for review and comment.

SUMMARY: The NRCS has issued a Finding of No Significant Impact (FONSI) for a stream restoration project on a private landowner's land on Conrad Creek. A copy of the FONSI and the final Environmental Assessment (EA) is available for public review at the following locations:

• NRCS Office, 157 NW. 15th, Unit 1, Newport, OR 97365;

• Siuslaw Soil and Water Conservation District Office, 1525 12th Street, Suite F, Florence, OR 97439;

• Florence Public Library, 1460 9th Street, Florence, OR 97439;

• Additional copies may be obtained by contacting Kate Danks, NRCS, 541-265-2631.

DATES: Comments will be received on or before September 22, 2003.

ADDRESSES: Address all requests and comments to Kate Danks, District Conservationist, Natural Resources Conservation Service (NRCS), 157 NW. 15th, Unit 1, Newport, OR 97365; (541)-265-9351 (fax).

FOR FURTHER INFORMATION CONTACT: Kate Danks, NRCS, 541-265-2631.

Dated: August 11, 2003.
Bob Graham,
State Conservationist, Portland, OR.

[FR Doc. 03-21494 Filed 8-21-03; 8:45 am]

BILLING CODE 3410-16-P